DEPARTMENT OF ENERGY

Federal Energy Regulatory Commission

Combined Notice of Filings

Take notice that the Commission has received the following Natural Gas Pipeline Rate and Refund Report filings:

Filings Instituting Proceedings

Docket Number: PR21-61-001.

Applicants: Whistler Pipeline LLC.

Description: Submits tariff filing per 284.123(b),(e)/: Amendment to 1 to be effective 8/1/2021 under PR21-61 Filing.

Filed Date: 10/25/21.

Accession Number: 202111025-5109.

Comments/Protests Due: 5 p.m. ET 11/15/21.

Docket Numbers: RP22-88-000.

Applicants: Texas Eastern Transmission, LP.

Description: § 4(d) Rate Filing: Negotiated Rates—Twin Eagle 911817 and 911818 to be effective 11/1/2021.

Filed Date: 10/27/21.

Accession Number: 20211027-5017.

Comment Date: 5 p.m. ET 11/8/21.

Docket Numbers: RP22-89-000.

Applicants: Texas Eastern Transmission, LP.

Description: § 4(d) Rate Filing: Negotiated Rates—Sequent 911825 eff 11-1-2021 to be effective 11/1/2021.

Filed Date: 10/27/21.

Accession Number: 20211027-5020.

Comment Date: 5 p.m. ET 11/8/21.

Docket Numbers: RP22-90-000.

Applicants: Texas Eastern Transmission, LP.

Description: § 4(d) Rate Filing: Negotiated Rates—Chesapeake 911801 and 911802 to be effective 11/1/2021.

Filed Date: 10/27/21.

Accession Number: 20211027-5042.

Comment Date: 5 p.m. ET 11/8/21.

Docket Numbers: RP22-91-000.

Applicants: Texas Eastern Transmission, LP.

Description: § 4(d) Rate Filing: Negotiated Rates—BUG 911814 eff 11-1-2021 to be effective 11/1/2021.

Filed Date: 10/27/21.

Accession Number: 20211027-5053.

Comment Date: 5 p.m. ET 11/8/21.

Docket Numbers: RP22-92-000.

Applicants: Texas Eastern Transmission, LP.

Description: § 4(d) Rate Filing: Negotiated Rates—Equinor Amendment 910953 to be effective 11/1/2021.

Filed Date: 10/27/21.

Accession Number: 20211027-5077.

Comment Date: 5 p.m. ET 11/8/21.

Docket Numbers: RP22-93-000.

Applicants: Texas Eastern Transmission, LP.

Description: § 4(d) Rate Filing: Negotiated Rates—UGI 911777 eff 11-1-2021 to be effective 11/1/2021.

Filed Date: 10/27/21.

Accession Number: 20211027-5103.

Comment Date: 5 p.m. ET 11/8/21.

Docket Numbers: RP22-94-000.

Applicants: Transcontinental Gas Pipe Line Company, LLC.

Description: Compliance filing: Transco Annual Penalty Revenue Sharing Report 2021 to be effective N/A.

Filed Date: 10/28/21.

Accession Number: 20211028-5019.

Comment Date: 5 p.m. ET 11/9/21.

Docket Numbers: RP22-95-000.

Applicants: Columbia Gas Transmission, LLC.

Description: § 4(d) Rate Filing: Negotiated Service Amds—Ascent & Antero to be effective 11/1/2021.

Filed Date: 10/28/21.

Accession Number: 20211028-5050.

Comment Date: 5 p.m. ET 11/9/21.

Docket Numbers: RP22-96-000.

Applicants: Ruby Pipeline, L.L.C.

Description: § 4(d) Rate Filing: Ruby FLU and EPC Update Filing to be effective 12/1/2021.

Filed Date: 10/28/21.

Accession Number: 20211028-5066.

Comment Date: 5 p.m. ET 11/9/21.

Docket Numbers: RP22-97-000.

Applicants: Texas Eastern Transmission, LP.

Description: § 4(d) Rate Filing: Negotiated Rates—Shell 911829 to be effective 11/1/2021.

Filed Date: 10/28/21.

Accession Number: 20211028-5070.

Comment Date: 5 p.m. ET 11/9/21.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP21-1129-001.

Applicants: ANR Pipeline Company.

Description: Compliance filing: ANR Best Bid Evaluation Compliance to be effective 10/20/2021.

Filed Date: 10/28/21.

Accession Number: 20211028-5033.

Comment Date: 5 p.m. ET 11/9/21.

Any person desiring to protest in any the above proceedings must file in accordance with Rule 211 of the Commission's Regulations (18 CFR 385.211) on or before 5:00 p.m. Eastern time on the specified comment date.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 28, 2021.
Kimberly D. Bose,
Secretary.

[FR Doc. 2021-23960 Filed 11-2-21; 8:45 am]

BILLING CODE 6717-01-P